DEPARTMENT OF ENERGY

Federal Energy Regulatory Commission

[Docket Nos. CP10-31-000; CP10-32-000; PF08-24-000]

Calais Pipeline Company, LLC; Calais LNG Project Company, LLC; Notice of Application

January 6, 2010.

Take notice that on December 18, 2009, Calais LNG Project Company, LLC (Calais LNG) and Calais Pipeline Company, LLC (Calais Pipeline) 142 Main Street, P.O. Box 133, Calais, Maine 04619, filed applications in Docket Nos. CP10-31-000 and CP10-32-000, pursuant to Section 3 and Section 7(c) of the Natural Gas Act (NGA), respectively, as amended and Parts 153, 157, 284 and 380 of the Commission's regulations requesting: (1) Authorization to site, construct and operate a new liquefied natural gas (LNG) import, storage, and vaporization terminal and associated facilities on the St. Croix River in Calais, Maine and authority to utilize the terminal as the point of importation of LNG; (2) a certificate of public convenience and necessity authorizing Calais Pipeline to construct and operate approximately 20.7 miles of 36-inch-diameter pipeline and related facilities in order to transport natural gas from the proposed Calais LNG import terminal in Calais, Maine to a proposed interconnection with Maritimes & Northeast Pipeline in Princeton Maine; (3) a blanket certificate pursuant to Part 284, Subpart G of the Commission's regulations permitting Calais Pipeline to provide open-access natural gas transportation services; and (4) a blanket certificate pursuant to Part 157 of the Commission's regulations permitting Calais Pipeline to construct and operate facilities, all as more fully set forth in the application which is on file with the Commission and open for public inspection.

The LNG terminal proposed by Calais LNG will be able to store up to 1,006,400 barrels of LNG in each of its three storage tanks and deliver 1.0 billion cubic feet (Bcf) per day of revaporized LNG to the Calais Pipeline. The Calais pipeline, in turn, will have a nominal capacity of 1.0 Bcf per day.

Any questions concerning this application should be directed to Carl H. Myers, Managing Member, Fuel Gas Solutions, LLC, One Meridian Boulevard, Suite 2001, Wyomissing, Pennsylvania 19610, (610) 568-1357 (phone), (610) 374-4288 (fax) or via e-mail at cmyers@gasmark.com.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

On June 18, 2008, the Commission staff granted Calais LNG's and Calais Pipeline's request to utilize the Pre-Filing Process and assigned Docket No. PF08-24 to staff activities involved with the Calais projects. Now as of the filing the December 18, 2009 application, the Pre-Filing Process for this project has ended. From this time forward, this proceeding will be conducted in Docket Nos. CP10-31-000 and CP10-32-000, as noted in the caption of this Notice.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: January 27, 2010.

Kimberly D. Bose,
Secretary.

[FR Doc. 2010-531 Filed 1-13-10; 8:45 am]

BILLING CODE 6717-01-P